DEPARTMENT OF COMMERCE

National Oceanic and Atmospheric Administration

Science Advisory Board (SAB); Draft Report of the NOAA Science Advisory Board Social Science Working Group

AGENCY: Office of Oceanic and Atmospheric Research (OAR), National Oceanic and Atmospheric Administration (NOAA), Department of Commerce (DOC).

ACTION: Notice of availability of report and request for public comment.

SUMMARY: NOAA Research (OAR) publishes this notice on behalf of the NOAA Science Advisory Board (SAB) to announce the availability of the draft report of the SAB Social Science Working Group (here called SSWG) for public comment. The draft report of the SSWG has been prepared pursuant to the request initiated from the NOAA for an external panel of experts to carry out an independent review of current social science research conducted by NOAA and examine how the results of the research are being developed and incorporated into the operations of NOAA.

DATES: Comments on this draft report must be received by December 26, 2008.

ADDRESSES: The draft report of the SSWG will be available on the NOAA Science Advisory Board Web site at http://www.sab.noaa.gov/Reports/SSWG.pdf. The public is encouraged to submit comments electronically to noaa.sab.comments@noaa.gov. For individuals who do not have access to the Internet, comments may be submitted in writing to: NOAA Science Advisory Board (SAB), c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-713-1459) during normal business hours of 9 a.m. to 5 p.m. Eastern Time, Monday through Friday, or visit the NOAA SAB Web site at http://www.sab.noaa.gov.

SUPPLEMENTARY INFORMATION: As part of its charge, the SSWG was tasked to examine social science related research efforts by NOAA. The SSWG was requested to develop findings and recommendations to enhance NOAA's social science research capabilities. The complete terms of reference for the working group can be found at http://www.sab.noaa.gov/Working_Groups/current/socialscience/SAB%20_SSWG07_ToR_FINAL.pdf. The SAB is chartered under the Federal Advisory Committee Act and is the only Federal Advisory Committee with the responsibility to advise the Under Secretary of Commerce for Oceans and Atmosphere on long- and short-term strategies for research, education, and application of science to resource management and environmental assessment and prediction.

NOAA welcomes all comments on the content of this draft report. We also request comments on any inconsistencies perceived within the report, and possible omissions of important topics or issues. This draft report is issued for comment only and is not intended for external purposes. For any inadequacies noted within the draft report, please propose specific remedies. Suggested changes will be incorporated where appropriate, and a final report will be posted on the SAB Web site.

Please follow these instructions for preparing and submitting comments. Using the format guidance described below will facilitate the comments process and assure that all comments are appropriately considered. Overview comments should be provided first and should be numbered. Comments that are specific to particular pages, paragraphs or lines of the section should follow any overview comments and should identify the page and line numbers to which they apply. Please number each page of your comments.

Dated: November 20, 2008.
Mark E. Brown,
Chief Financial Officer, Office of Oceanic and Atmosphere Research, National Oceanic and Atmospheric Administration.

[FR Doc. E8-28008 Filed 11-24-08; 8:45 am]

BILLING CODE 3510-22-P